ENVIRONMENTAL PROTECTION AGENCY

[EPA-HQ-OPP-2018-0576; FRL-9985-70]

Pesticide Product Registration; Receipt of Applications for New Uses

AGENCY: Environmental Protection Agency (EPA).

ACTION: Notice.

SUMMARY: EPA has received applications to register new uses for pesticide products containing currently registered active ingredients. Pursuant to the Federal Insecticide, Fungicide, and Rodenticide Act (FIFRA), EPA is hereby providing notice of receipt and opportunity to comment on these applications.

DATES: Comments must be received on or before December 17, 2018.

ADDRESSES: Submit your comments, identified by the Docket Identification (ID) Number and the File Symbol or EPA Registration Number of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each application summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register new uses for pesticide products containing currently registered active ingredients. Pursuant to the provisions of FIFRA section 3(c)(4) (7 U.S.C. 136a(c)(4)), EPA is hereby providing notice of receipt and opportunity to comment on these applications. Notice of receipt of these applications does not imply a decision by the Agency on these applications.

III. New Uses

1. EPA Registration Numbers: 100-815, 100-816, 100-1406, and 100-1407. Docket ID number: EPA-HQ-OPP-2017-0465. Applicant: Syngenta Crop Protection, LLC, P.O. Box 18300, Greensboro NC 27419. Active ingredient: s-metolachlor. Product type: Herbicide. Proposed use: Stevia; chicory; Swiss chard; vegetable, brassica, head and stem, group 5-16; the brassica, leafy greens, subgroup 4-16B, except Chinese broccoli; the leaf petiole vegetable subgroup 22B; stalk and stem vegetable subgroup 22A, except celtuce, Florence fennel and kohlrabi; the cottonseed subgroup 20C; celtuce; Florence fennel; Kohlrabi; and Chinese broccoli. Contact: RD.

2. EPA Registration Number: 264-678. Docket ID number: EPA-HQ-OPP-2018-0623. Applicant: Bayer CropScience LP. Active ingredient: Propamocarb hydrochloride. Product type: Fungicide. Proposed use: Guava; leafy greens subgroup 4-16A; starfruit; vegetable, fruiting, group 8-10; vegetable, tuberous and corm, subgroup 1C. Contact: RD.

3. EPA Registration Numbers: 4787-55, 4787-61, 279-GAGG. Docket ID number: EPA-HQ-OPP-2018-0297. Applicant: Cheminova A/S, P.O. Box 9, DK-7620, Lemvig, Denmark and on behalf of FMC Corporation, 2929 Walnut Street, Philadelphia, PA 19104. Active ingredient: Flutriafol. Product type: Fungicide. Proposed uses: Turf (golf course, athletic fields, commercial sod farms, and public, industrial and commercial property lawns) and ornamentals (field and greenhouse). Contact: RD.

4. EPA Registration Numbers: 10163-361 and 10163-363. Docket ID number: EPA-HQ-OPP-2017-0420. Applicant: Gowan Company P.O. Box 5569 Yuma, AZ 85366-5569. Active ingredient: Trifluralin. Product type: Herbicide. Proposed use: Rosemary. Contact: RD.

5. File Symbols: 62719-TGE and 62719-TGR and EPA Registration Number: 62719-697. Docket ID number: EPA-HQ-OPP-2018-0645. Applicant: Dow AgroSciences LLC, 9330 Zionsville Road Indianapolis, IN 46268. Active ingredient: Florpyrauxifen-benzyl. Product type: Herbicide. Proposed uses: Pome fruit, stone fruit, citrus fruit, tree nuts, olives, coffee, pineapple, papaya, corn, sorghum, cereals, sugarcane, cotton, fallow, burndown, cole crops, bulb vegetables, and non-cropland. Contact: RD.

6. EPA Registration Numbers: 66330-35 and 66330-36. Docket ID number: EPA-HQ-OPP-2018-0560. Applicant: Arysta LifeScience, North America, LLC. Active ingredient: Fenhexamid. Product type: Fungicide. Proposed use: Arugula; berry, low growing, subgroup 13-07G; bushberry subgroup 13-07B; caneberry subgroup 13-07A; fruit, small, vine climbing, except fuzzy kiwifruit, subgroup 13-07F; fruit, stone, group 12-12, except plum, prune, fresh, postharvest; garden cress; kiwifruit, fuzzy; leafy greens, subgroup 4-16A, except spinach; onion, bulb, crop subgroup 3-07A; onion, green, subgroup 3-07B; upland cress; vegetable, fruiting, group 8-10, except nonbell pepper. Contact: RD.

7. EPA Registration Number: 71512-24 and 71512-25. Docket ID number: EPA-HQ-OPP-2018-0677. Applicant: ISK Biosciences Corporation, 7470 Auburn Road, Suite A, Concord, Ohio, 44077. Active ingredient: Pyriofenone. Product type: Fungicide. Proposed use: Fruiting Vegetables, Crop Group 8-10. Contact: RD.

Authority: 7 U.S.C. 136 et seq.

Dated: October 23, 2018.
Delores Barber,
Director, Information Technology and Resources Management Division, Office of Pesticide Programs.

[FR Doc. 2018-24971 Filed 11-14-18; 8:45 am]

BILLING CODE 6560-50-P